ENVIRONMENTAL PROTECTION AGENCY

[FRL-8530-4]

Frontier Fertilizer Superfund Site; Proposed Notice of Administrative Order on Consent for Certain Remedial Activities in Connection With the Frontier Fertilizer Superfund Site

AGENCY: Environmental Protection Agency (EPA).

ACTION: Notice; request for public comment.

SUMMARY: Notice is hereby given that a proposed Administrative Order on Consent (“Agreement”) concerning certain remedial activities by a Bona Fide Prospective Purchaser in connection with remediation of the Frontier Fertilizer Superfund Site (“Site”) in Davis, California has been negotiated by the United States Environmental Protection Agency (“EPA”) and Target Corporation (“Respondent”) subject to the final review and approval of the EPA and the U.S. Department of Justice. The proposed Agreement concerns relocation and abandonment of groundwater wells on Respondent's property pursuant to the Comprehensive Environmental Response, Compensation and Liability Act, 42 U.S.C. 9604, 9606 and 9622 (“CERCLA”). Respondent's property is adjacent to the Frontier Fertilizer facility, and wells on Respondent's property are necessary for implementation of the remedial action at the Site. The Agreement requires that wells on Respondent's property be relocated under the oversight of EPA. The proposed Agreement includes EPA's covenant not to sue or to take administrative action against the Respondent, provided that the Respondent complies with all the terms and conditions of the Agreement. The Agreement also commits the Respondent to reimburse oversight costs incurred by EPA in connection with the work conducted under CERCLA at the Respondent's property.

For thirty (30) calendar days following the date of publication of this notice, EPA will receive written comments relating to the proposed Agreement. EPA's response to any comments received will be available for public inspection at the U.S. Environmental Protection Agency, 75 Hawthorne Street, San Francisco, CA 94105.

DATES: Comments must be submitted on or before March 17, 2008.

Availability: The proposed Agreement may be obtained from Judith Winchell, Docket Clerk, telephone (415) 972-3124. Comments regarding the proposed Agreement should be addressed to Judith Winchell (SFD-7) at United States EPA Region IX, 75 Hawthorne Street, San Francisco, California 94105, and should reference “Frontier Fertilizer Superfund Site,” and “Docket No. R9-2008-01”.

FOR FURTHER INFORMATION CONTACT: Michele Benson, Assistant Regional Counsel (ORC-3), Office of Regional Counsel, U.S. EPA Region IX, 75 Hawthorne Street, San Francisco, CA 94105; E-mail: benson.michele@epa.gov; phone: (415) 972-3918.

Dated: January 15, 2008.
Keith Takata,
Director, Superfund Division, Region IX.

[FR Doc. E8-2958 Filed 2-14-08; 8:45 am]

BILLING CODE 6560-50-P